DEPARTMENT OF THE INTERIOR

National Park Service

[NPS-NER-HPPC-1220-9136; 4780-NERI-409]

Record of Decision for the General Management Plan/Abbreviated Final Environmental Impact Statement for New River Gorge National River, West Virginia

AGENCY: National Park Service, Interior.

ACTION: Notice of Availability.

SUMMARY: The National Park Service announces the availability of the Record of Decision for the Abbreviated Final Environmental Impact Statement for the General Management Plan for New River Gorge National River, West Virginia. The Record of Decision selects the approved general management plan for New River Gorge National River for the next 15 to 20 years.

ADDRESSES: A printed copy of the Record of Decision may be obtained by contacting Superintendent Don Striker, New River Gorge National River, P.O. Box 246, Glen Jean, West Virginia 25846; (304) 465-0508; NERI_Superintendent@nps.gov. An electronic copy of the Record of Decision can be downloaded from the NPS Planning, Environment and Public Comment (PEPC) Web site (http://parkplanning.nps.gov/neri).

SUPPLEMENTARY INFORMATION: On December 7, 2011, the Regional Director of the National Park Service (NPS) Northeast Region signed the Record of Decision selecting Alternative 5 as the approved General Management Plan for New River Gorge National River. Alternative 5 was identified as the NPS preferred alternative in the General Management Plan and Abbreviated Final Environmental Impact Statement (GMP/EIS) issued on October 7, 2011. The Record of Decision includes:

• A statement of the decision made;

• A synopsis of other alternatives considered;

• The basis for the decision;

• A description of the environmentally preferable alternative;

• A listing of measures to minimize environmental harm; and

• An overview of public involvement in the decision-making process.

The approved General Management Plan will guide long-term management of the New River Gorge National River. As soon as feasible, we will begin to implement the selected alternative.

The purpose of a General Management Plan is to provide a decision-making framework that ensures that management decisions effectively and efficiently carry out our mission for the next 15 to 20 years. The GMP/EIS planning process at New River Gorge National River allowed us to respond to new issues and changing conditions and revise the prior GMP approved in 1982. This planning process was initiated in 2005 and conducted with extensive public and agency involvement. The planning team held meetings with and/or contacted key stakeholders, agencies, tribes, resource experts, and members of the public throughout 2005 and 2006. Stakeholders, agencies, and the interested public were briefed with newsletters and press releases and provided the opportunities to provide input at fifteen public meetings held in 2006 and 2007.

Review Process for the Management Plan and Environmental Impact Statement

Consistent with Federal laws and regulations, and with National Park Service policies, the Draft GMP/EIS was released for public review and comment from January 13, 2010, through April 16, 2010. The Draft GMP/EIS described and analyzed the environmental impact of five alternatives to guide the development and future management of the National River: Alternative 1, the No-Action Alternative, and Action Alternatives 2-5. Action Alternative 5, the NPS Preferred Alternative, would:

• Preserve areas for primitive recreational experiences from end to end of the park;

• Intersperse cultural and interpretive resource focal areas;

• Establish a north-south, through-park connector of scenic roads and trails;

• Develop partnerships with gateway communities; and

• Improve rim-to-river experiences.

Copies of the Draft GMP/EIS were sent to individuals, agencies, tribes, and organizations, and were made available to the public at the park office, by request, and on our Planning, Environment and Public Comment (PEPC) Web site (http://parkplanning.nps.gov/neri). Public open houses were held on March 9, 10, and 11, 2010 in Hinton, Beckley, and Fayetteville, WV, respectively.

The comments received on the Draft GMP/EIS required only minor responses and editorial corrections; thus, an abbreviated format was used for the Final GMP/EIS. The Abbreviated Final GMP/EIS, issued on October 7, 2011, included an analysis of agency and public comments received on the Draft GMP/EIS with NPS responses, errata sheets detailing editorial corrections to the Draft GMP/EIS, and copies of agency and substantive public comments. No changes were made to the alternatives or to the impact analysis presented in the Draft GMP/EIS. Therefore, Action Alternative 5 remained as the NPS Preferred Alternative and the environmentally preferred alternative.

Why NPS Selected Alternative 5

We selected Alternative 5 because it best fulfills the purposes of the park and conveys the greatest number of beneficial results in comparison with the other alternatives. The selected alternative:

• Results in major beneficial impacts to natural and scenic resources, primarily as a result of managing large areas of the park as unfragmented backcountry forest.

• Addresses the long-term preservation needs of the park's cultural resources and, through the park's leasing program, provides an income stream for their long-term maintenance.

• Emphasizes primitive recreational experiences throughout the park and along the new through-park connector by linking portions of scenic roads and trails along the length of the park. In the long term, we will develop additional segments of trail limited to hiking/biking only to create a through park trail. New facilities will expand visitor opportunities in the vicinity of river gateway communities and in focal areas.

• Addresses the majority of visitor use issues and provides the greatest direct and indirect economic impact in terms of jobs, earnings, NPS spending, and visitor spending. More aggressive partnering with gateway communities will better enhance relevance of the park to local visitors and better enable us to respond to concerns of local residents about how the park is managed.

The Abbreviated Final GMP/EIS and the Draft GMP/EIS constitute the principal documentation upon which this Record of Decision is based.

Dated: February 10, 2012.
Dennis R. Reidenbach,
Regional Director, Northeast Region, National Park Service.

[FR Doc. 2012-5096 Filed 3-1-12; 8:45 am]

BILLING CODE 4310-YP-P